FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than September 7, 2001.

A. Federal Reserve Bank of Boston (Richard Walker, Community Affairs Officer) 600 Atlantic Avenue, Boston, Massachusetts 02106-2204:

1. Banknorth Group, Inc., Portland, Maine; to acquire and merge with Andover Bancorp, Inc., Andover Massachusetts, and thereby indirectly acquire Andover Bank, Andover, Massachusetts, and Gloucester Bank & Trust Company, Gloucester, Massachusetts.

In connection with this application, Applicant also has applied to acquire a 15.9 percent interest in Gloucester Investment Corp., Gloucester, Massachusetts, and thereby engage in making loans to small businesses and investments in industrial and commercial enterprises in the City of Gloucester and the area known as Cape Ann, pursuant to § 225.28(b)(12) of Regulation Y.

B. Federal Reserve Bank of Atlanta (Cynthia C. Goodwin, Vice President) 1000 Peachtree Street, N.E., Atlanta, Georgia 30309-4470:

1. F.N.B. Financial Corporation, Naples, Florida; to acquire and merge with Promistar Financial Corporation, and thereby indirectly acquire Promistar Bank, both of Johnstown, Pennsylvania.

C. Federal Reserve Bank of Dallas (W. Arthur Tribble, Vice President) 2200 North Pearl Street, Dallas, Texas 75201-2272:

1. Cisco Bancshares, Inc., Cisco, Texas, and Cisco Bancshares of Nevada, Inc., Carson City, Nevada; to become bank holding companies by acquiring 100 percent of the voting shares of First National Bank, Cisco, Texas.

2. Olney Bancshares of Texas, Inc., Olney, Texas, and Olney Bancorp of Delaware, Inc., Wilmington, Delaware; to acquire 100 percent of the voting shares of Friona State Bank, Friona, Texas.

Board of Governors of the Federal Reserve System, August 8, 2001.
Robert deV. Frierson,
Deputy Secretary of the Board.

[FR Doc. 01-20287 Filed 8-10-01; 8:45 am]

BILLING CODE 6210-01-S